DEPARTMENT OF ENERGY

Federal Energy Regulatory Commission

[Docket No. ES01-12-000, et al.]

MDU Resources Group, Inc., et al.; Electric Rate and Corporate Regulation Filings

November 17, 2000.

Take notice that the following filings have been made with the Commission:

1. MDU Resources Group, Inc.

[Docket No. ES01-12-000]

Take notice that on November 15, 2000, MDU Resources Group, Inc. submitted an application pursuant to section 204 of the Federal Power Act requesting authorization to incur short-term indebtedness in an amount not to exceed $75 million.

Comment date: December 8, 2000, in accordance with Standard Paragraph E at the end of this notice.

2. H.Q. Energy Services (U.S.) Inc.

[Docket No. ER97-851-012]

Take notice that on November 9, 2000, H.Q. Energy Services (U.S.) Inc. (H.Q. Energy), tendered for filing an updated generation market power study in support of sales of electric energy at market based prices, pursuant to the Commission's order in H.Q. Energy Services (U.S.) Inc., 81 FERC ¶ 61,184 (1997). H.Q. Energy also tendered for filing a First Revised FERC Rate Schedule No. 1 setting forth proposed revisions to its tariff to provide for the sale of specified ancillary services and the reassignment of transmission rights to become effective as of the day after the date of filing.

Comment date: November 30, 2000, in accordance with Standard Paragraph E at the end of this notice.

3. Detroit Edison Company DTE Energy Trading, Inc.

[Docket No. ER00-3672-001]

Take notice that on November 9, 2000, Detroit Edison Company and DTE Energy Trading, Inc., tendered for filing a request to withdraw its proposed revisions to tariffs and power supply agreements, proposed service agreements and proposed modifications to codes of conduct filed with the Commission on September 14, 2000 in the above referenced docket.

Comment date: November 30, 2000, in accordance with Standard Paragraph E at the end of this notice.

4. PJM Interconnection L.L.C.

[Docket No. ER00-3576-001]

Take notice that on November 9, 2000, PJM Interconnection L.L.C., tendered for filing a refund report in the above-referenced docket.

Comment date: November 30, 2000, in accordance with Standard Paragraph E at the end of this notice.

5. Idaho Power Company

[Docket No. ER97-1481-002]

Take notice that on November 13, 2000, Idaho Power Company tendered for filing an updated market power analysis in compliance with the Commission's order in Docket No. ER97-1481.

Comment date: December 4, 2000, in accordance with Standard Paragraph E at the end of this notice.

6. Carolina Power & Light Company

[Docket No. ER00-3435-002]

Take notice that on November 13, 2000, Carolina Power & Light (CP&L or the Company), tendered for filing revised tariff sheets in compliance with the Commission's order issued October 11, 2000 in Carolina Power & Light Company, 93 FERC ¶ 61,032 (2000).

CP&L requests that this compliance filing be made effective August 17, 2000, consistent with the Commission's acceptance of the Company's filing in October 11 order.

Copies of the filing were served upon CP&L's OATT customers, the North Carolina Utilities Commission and the South Carolina Public Service Commission.

Comment date: December 4, 2000, in accordance with Standard Paragraph E at the end of this notice.

7. Ameren Energy Generating Company

[Docket No. ER00-3412-002]

Take notice that on November 9, 2000, Ameren Energy Generating Company (AEG), tendered for filing a revised version of its market-based rate tariff and a revised version of an amended power supply agreement with one customer, each modified in compliance with the Commission's October 11, 2000 order in this proceeding.

AEG seeks an effective date of August 15, 2000 for these changes.

Comment date: November 30, 2000, in accordance with Standard Paragraph E at the end of this notice.

8. Xcel Energy Services, Inc.

[Docket No. ER01-408-000]

Take notice that on November 9, 2000, Xcel Energy Services Inc. (XES), on behalf of Northern States Power Companies (NSP), tendered for filing a Long-Term Market-Based Electric Service Agreement and an Electric Service Agreement between NSP and Energy Alternatives, Inc. as Agent for Dakota Electric Association.

NSP requests that this Long-Term Market-Based Electric Service Agreement be made effective on August 30, 2000 and the Electric Service Agreement be made effective on September 1, 2000.

Comment date: November 30, 2000, in accordance with Standard Paragraph E at the end of this notice.

9. Sierra Pacific Power Company

[Docket No. ER01-409-000]

Take notice that on November 9, 2000, Sierra Pacific Power Company (Sierra) tendered for filing Service Agreements (Service Agreements) with the following entities for Point-to-Point Transmission Service under Sierra Pacific Resources Operating Companies FERC Electric Tariff, Revised Volume No. 1, Open Access Transmission Tariff (Tariff):

For Non-Firm Point-to-Point Transmission Service

1. Sacramento Municipal Utility District

2. The Legacy Energy Group, LLC

3. Morgan Stanley Capital Group Inc.

For Short-Term Firm Point-to-Point Transmission Service

1. Sacramento Municipal Utility District

2. The Legacy Energy Group, LLC

3. Morgan Stanley Capital Group Inc.

Sierra filed the executed Service Agreements with the Commission in compliance with Sections 13.4 and 14.4 of the Tariff and applicable Commission regulations. Sierra also submitted revised Sheet Nos. 195 and 196 (Attachment E) to the Tariff, which is an updated list of all current subscribers. Sierra requests waiver of the Commission's notice requirements to permit and effective date of November 10, 2000 for Attachment E, and to allow the Service Agreements to become effective according to their terms.

Copies of this filing were served upon the Public Utilities Commission of Nevada, the Public Utilities Commission of California and all interested parties.

Comment date: November 30, 2000, in accordance with Standard Paragraph E at the end of this notice.

10. Consumers Energy Company; Michigan Electric Transmission Company

[Docket No. ER01-410-000]

Take notice that on November 9, 2000, Consumers Energy Company (Consumers) and Michigan Electric Transmission Company (Michigan Transco), tendered for filing a Michigan Transco Open Access Transmission Tariff (OATT) which is to supersede, for the most part, Consumers' OATT (Consumers FERC Electric Tariff No. 6). The revision is to reflect the proposed transfer of Consumers' transmission assets to Michigan Transco. Copies of the filing were served upon all customers under Consumers' OATT and upon the Michigan Public Service Commission.

Consumers and Michigan Transco request that the filed OATT be allowed to take effect on the date of the transfer of those assets, expected to occur approximately February 1, 2001.

Comment date: November 30, 2000, in accordance with Standard Paragraph E at the end of this notice.

11. Consumers Energy Company

[Docket No. ER01-411-000]

Take notice that on November 9, 2000, Consumers Energy Company (Consumers) tendered for filing a Facilities Agreement between Consumers and SEI Michigan, L.L.C. [SEI] (Agreement). Under the Agreement, Consumers is to provide electrical connection facilities between a generating plant to be built by SEI and Consumers transmission system. Consumers requested that the Agreement be allowed to become effective October 4, 2000.

Copies of the filing were served upon SEI and the Michigan Public Service Commission.

Comment date: November 30, 2000, in accordance with Standard Paragraph E at the end of this notice.

12. California Independent System Operator Corporation

[Docket No. ER01-412-000]

Take notice that on November 9, 2000, the California Independent System Operator Corporation, tendered for filing a Scheduling Coordinator Agreement between the ISO and Merrill Lynch Capital Services, Inc., for acceptance by the Commission.

The ISO states that this filing has been served on Merrill Lynch Capital Services, Inc. and the California Public Utilities Commission.

The ISO is requesting waiver of the 60-day notice requirement to allow the Scheduling Coordinator Agreement to be made effective as of October 23, 2000.

Comment date: November 30, 2000, in accordance with Standard Paragraph E at the end of this notice.

13. Southern California Edison Company

[Docket No. ER01-414-000]

Take notice that on November 13, 2000, Southern California Edison Company (SCE), tendered for filing the Agreement For Interconnection Service (Agreement), between SCE and Harbor Cogeneration Company (Harbor).

The Agreement specifies the terms and conditions under which SCE will interconnect Harbor's 80,000 kW generating facility with SCE's Harborgen Substation pursuant to SCE's Transmission Owner Tariff.

Copies of this filing were served upon the Public Utilities Commission of the State of California and all interested parties.

Comment date: December 4, 2000, in accordance with Standard Paragraph E at the end of this notice.

14. Duke Energy Corporation

[Docket No. ER01-415-000]

Take notice that on November 9, 2000, Duke Energy Corporation (Duke) tendered for filing a Service Agreement with The Detroit Edison Company, for Non-Firm Transmission Service under Duke's Open Access Transmission Tariff.

Duke requests that the proposed Service Agreement be permitted to become effective on October 10, 2000.

Duke states that this filing is in accordance with Part 35 of the Commission's Regulations and a copy has been served on the North Carolina Utilities Commission.

Comment date: November 30, 2000, in accordance with Standard Paragraph E at the end of this notice.

15. Cinergy Services, Inc.

[Docket No. ER01-416-000]

Take notice that on November 13, 2000, Cinergy Services, Inc. (Cinergy) and Engelhard Power Marketing, Inc., are requesting a cancellation of Service Agreement No. 96, under Cinergy Operating Companies, Market-Based Power Sales Tariff—MB, FERC Electric Tariff Original Volume No. 7.

Cinergy requests an effective date of November 13, 2000.

Comment date: December 4, 2000, in accordance with Standard Paragraph E at the end of this notice.

16. Cinergy Services, Inc.

[Docket No. ER01-417-000]

Take notice that on November 13, 2000, Cinergy Services, Inc. (Cinergy), tendered for filing an executed Market-Based Service Agreement and a Confirmation Letter for long term service under Cinergy's Market-Based Power Sales Standard Tariff—MB (the Tariff) entered into between Cinergy and City of Hamilton, Ohio (Hamilton).

Cinergy and Hamilton are requesting an effective date of January 1, 2001 and the same Rate Designation as per the original filing.

Comment date: December 4, 2000, in accordance with Standard Paragraph E at the end of this notice.

17. Cinergy Services, Inc.

[Docket No. ER01-418-000]

Take notice that on November 13, 2000, Cinergy Services, Inc. (Cinergy) and PPL Inc., are requesting a cancellation of Service Agreement No. 111, under Cinergy Operating Companies, Resale of Transmission Rights and Ancillary Service Rights, FERC Electric Tariff Original Volume No. 8.

Cinergy requests an effective date of July 1, 2000.

Comment date: December 4, 2000, in accordance with Standard Paragraph E at the end of this notice.

18. Cinergy Services, Inc.

[Docket No. ER01-419-000]

Take notice that on November 13, 2000, Cinergy Services, Inc. (Cinergy) and PPL Inc. are requesting a cancellation of Service Agreement No. 32, under Cinergy Operating Companies, Cost-Based Power Sales Tariff—CB, FERC Electric Tariff Original Volume No. 6.

Cinergy requests an effective date of July 1, 2000.

Comment date: December 4, 2000, in accordance with Standard Paragraph E at the end of this notice.

19. Cinergy Services, Inc.

[Docket No. ER01-420-000]

Take notice that on November 13, 2000, Cinergy Services, Inc. (Cinergy) and PPL Inc. are requesting a cancellation of Service Agreement No. 32, under Cinergy Operating Companies, Market-Based Power Sales Tariff—MB, FERC Electric Tariff Original Volume No. 7.

Cinergy requests an effective date of July 1, 2000.

Comment date: December 4, 2000, in accordance with Standard Paragraph E at the end of this notice.

20. Cinergy Services, Inc.

[Docket No. ER01-421-000]

Take notice that on November 13, 2000, Cinergy Services, Inc. (Cinergy) and Engelhard Power Marketing, Inc. are requesting a cancellation of Service Agreement No. 96, under Cinergy Operating Companies, Cost-Based Power Sales Tariff—CB, FERC Electric Tariff Original Volume No. 6.

Cinergy requests an effective date of November 13, 2000.

Comment date: December 4, 2000, in accordance with Standard Paragraph E at the end of this notice.

21. Cinergy Services, Inc.

[Docket No. ER01-422-000]

Take notice that on November 10, 2000, Cinergy Services, Inc. (Cinergy), tendered for filing a Service Agreement under Cinergy's Cost-Based Power Sales Standard Tariff—CB (the Tariff) entered into between Cinergy and Strategic Energy, L.L.C. (Strategic). This Service Agreement has been executed by both parties and is to replace the existing unexecuted Service Agreement.

Comment date: December 4, 2000, in accordance with Standard Paragraph E at the end of this notice.

22. Cinergy Services, Inc.

[Docket No. ER01-423-000]

Take notice that on November 13, 2000, Cinergy Services, Inc. (Cinergy), tendered for filing a Service Agreement under Cinergy's Market-Based Power Sales Standard Tariff—MB (the Tariff) entered into between Cinergy and Strategic Energy, L.L.C. (Strategic). This Service Agreement has been executed by both parties and is to replace the existing unexecuted Service Agreement.

Comment date: December 4, 2000, in accordance with Standard Paragraph E at the end of this notice.

23. Pacific Gas and Electric Company

[Docket No. ER01-424-000]

Take notice that on November 13, 2000, Pacific Gas and Electric Company (PG&E), tendered for filing a new Grid Management Charge Pass-Through Tariff (GMC Pass-Through Tariff). This filing seeks to recover the costs proposed in the California Independent System Operator Corporation's (ISO) GMC filing in Docket No. ER01-313-000 on November 1, 2000.

PG&E requests an effective date of January 1, 2001 or the date the Commission makes effective the ISO's filing in Docket No. ER01-313-000.

Copies of this filing have been served upon the California Public Utilities Commission, all affected customers and the ISO.

Comment date: December 4, 2000, in accordance with Standard Paragraph E at the end of this notice.

24. Allegheny Energy Service Corporation, on behalf of Allegheny Energy Supply Company LLC

[Docket No. ER01-425-000]

Take notice that on November 13, 2000, Allegheny Energy Service Corporation on behalf of Allegheny Energy Supply Company, LLC (Allegheny Energy Supply Company) tendered Second Revised Service Agreement No. 17 to complete the filing requirement for one (1) new Customer of the Market Rate Tariff under which Allegheny Energy Supply offers generation services. The Power Purchase and Sale Agreement portion of Second Revised Service Agreement No. 17 for Coastal Merchant Energy, L.P. will maintain the effective date of November 22, 1999, in accordance with the Commission's Order at Docket No. ER00-862-000 and the Netting Agreement will maintain an effective date as of May 12, 2000 as accepted by the Commission in Docket No. ER00-2751-000.

Copies of the filing have been provided to the Public Utilities Commission of Ohio, the Pennsylvania Public Utility Commission, the Maryland Public Service Commission, the Virginia State Corporation Commission, the West Virginia Public Service Commission, and all parties of record.

Comment date: December 4, 2000, in accordance with Standard Paragraph E at the end of this notice.

25. Virginia Electric and Power Company

[Docket No. ER01-426-000]

Take notice that on November 13, 2000, Virginia Electric and Power Company (Dominion Virginia Power or the Company), tendered for filing a Retail Network Integration Transmission Service and Network Operating Agreement (Service Agreement) by Virginia Electric and Power Company to AEP Retail Energy LLC designated as Service Agreement No. 310 under the Company's Retail Access Pilot Program, pursuant to Attachment L of the Company's Open Access Transmission Tariff, FERC Electric Tariff, Second Revised Volume No. 5, to Eligible Purchasers effective June 7, 2000.

Dominion Virginia Power requests an effective date of November 10, 2000, the date of filing of the Service Agreement.

Copies of the filing were served upon AEP Retail Energy LLC, the Virginia State Corporation Commission, and the North Carolina Utilities Commission.

Comment date: December 4, 2000, in accordance with Standard Paragraph E at the end of this notice.

26. Virginia Electric and Power Company

[Docket No. ER01-427-000]

Take notice that on November 13, 2000, Virginia Electric and Power Company (Dominion Virginia Power or the Company), tendered for filing a Service Agreement for Firm Point-to-Point Transmission Service by Virginia Electric and Power Company to The Detroit Edison Company designated as Service Agreement No. 308 under the Company's FERC Electric Tariff, Second Revised Volume No. 5 and a Service Agreement for Non-Firm Point-to-Point Transmission Service by Virginia Electric and Power Company to The Detroit Edison Company designated as Service Agreement No. 309 under the Company's FERC Electric Tariff, Second Revised Volume No. 5.

The foregoing Service Agreements are tendered for filing under the Open Access Transmission Tariff to Eligible Purchasers effective June 7, 2000. Under the tendered Service Agreements, Dominion Virginia Power will provide point-to-point service to The Detroit Edison Company under the rates, terms and conditions of the Open Access Transmission Tariff.

Dominion Virginia Power requests an effective date of November 10, 2000, the date of filing of the Service Agreements.

Copies of the filing were served upon The Detroit Edison Company, the Virginia State Corporation Commission, and the North Carolina Utilities Commission.

Comment date: December 4, 2000, in accordance with Standard Paragraph E at the end of this notice.

27. Southwest Power Pool, Inc.

[Docket No. ER01-430-000]

Take notice that on November 13, 2000, Southwest Power Pool, Inc. (SPP), tendered for filing an executed service agreement for Firm Point-to-Point Transmission Service with Southwestern Public Service—Wholesale Merchant Function (Transmission Customer).

SPP seeks an effective date of January 1, 2001 for the service agreement.

A copy of this filing was served on the Transmission Customer.

Comment date: December 4, 2000, in accordance with Standard Paragraph E at the end of this notice.

28. Southwest Power Pool, Inc.

[Docket No. ER01-431-000]

Take notice that on November 13, 2000, Southwest Power Pool, Inc. (SPP), tendered for filing an executed service agreement for Firm Point-to-Point Transmission Service with Southwestern Public Service—Wholesale Merchant Function (Transmission Customer).

A copy of this filing was served on the Transmission Customer.

Comment date: December 4, 2000, in accordance with Standard Paragraph E at the end of this notice.

29. Allegheny Energy Supply Company, L.L.C. The Potomac Edison Company, West Penn Power Company (d/b/a Allegheny Power)

[Docket No. ER01-432-000]

Take notice that on November 13, 2000, Allegheny Energy Supply Company, L.L.C. (Allegheny Energy Supply), tendered for filing its First Revised Rate Schedule FERC No. 3. The filing updates the Appendices to the Agreement to include the effects of the transfer of assets of The Potomac Edison Company, changes the definition of “Indexed Price” to conform with the Commission's Order at Docket No. ER00-2309-000 and revises the format of the entire Agreement to conform with the designation and pagination requirements of the Commission's Order No. 614.

Copies of the filing have been provided to the Public Utilities Commission of Ohio, the Pennsylvania Public Utility Commission, the Maryland Public Service Commission, the Virginia State Corporation Commission, the West Virginia Public Service Commission and all parties of record.

Comment date: December 4, 2000, in accordance with Standard Paragraph E at the end of this notice.

30. The Montana Power Company

[Docket No. ER01-433-000]

Take notice that on November 13, 2000, The Montana Power Company (Montana), tendered for filing with the Federal Energy Regulatory Commission pursuant to 18 CFR 35.13 executed Firm and Non-Firm Point-To-Point Transmission Service Agreements with the Eugene Water & Electric Board under Montana's FERC Electric Tariff, Fourth Revised Volume No. 5 (Open Access Transmission Tariff).

A copy of the filing was served upon the Eugene Water & Electric Board.

Comment date: December 4, 2000, in accordance with Standard Paragraph E at the end of this notice.

31. Wisconsin Public Service Corporation

[Docket No. ER01-434-000]

Take notice that on November 13, 2000, Wisconsin Public Service Corporation (WPSC), tendered for filing a revised market-based rate tariff including a form of umbrella service agreement. The revised tariff is designed to accommodate the use of the EEI Master Power Purchase & Sales Agreement and includes provisions regarding the resale of transmission rights.

WPSC requests waiver of the Commission's notice of filing requirements to allow the tariff to become effective on November 14, 2000, the day after filing.

Copies of the filing were served upon all of WPSC's tariff customers, the state commissions of Wisconsin and Michigan, and other concerned parties.

Comment date: December 4, 2000, in accordance with Standard Paragraph E at the end of this notice.

32. Southwestern Public Service Company

[Docket No. ER01-435-000]

Take notice that on November 13, 2000, Xcel Energy Services, Inc., on behalf of Southwestern Public Service Company (Southwestern), tendered for filing an executed umbrella service agreement under Southwestern's market-based sales tariff with Otter Tail Power Company (Otter Tail). This umbrella service agreement provides for Southwestern's sale and Otter Tail's purchase of capacity and energy at market-based rates pursuant to Southwestern's market-based sales tariff.

Comment date: December 4, 2000, in accordance with Standard Paragraph E at the end of this notice.

33. Allegheny Energy Service Corporation, on behalf of Allegheny Energy Supply Company, LLC

[Docket No. ER01-436-000]

Take notice that on November 13, 2000, Allegheny Energy Service Corporation on behalf of Allegheny Energy Supply Company, LLC (Allegheny Energy Supply), tendered for filing Service Agreement No. 99 to add one (1) new Customer to the Market Rate Tariff under which Allegheny Energy Supply Company offers generation services, and to incorporate a Netting Agreement with The Energy Authority, Inc., into the tariff provisions.

Allegheny Energy Supply requests a waiver of notice requirements to make Service Agreement No. 99 effective as of September 12, 2000.

Copies of the filing have been provided to the Public Utilities Commission of Ohio, the Pennsylvania Public Utility Commission, the Maryland Public Service Commission, the Virginia State Corporation Commission, the West Virginia Public Service Commission, and all parties of record.

Comment date: December 4, 2000, in accordance with Standard Paragraph E at the end of this notice.

34. Western Resources, Inc.

[Docket No. ER01-444-000]

Take notice that on November 13, 2000, Western Resources, Inc. (WR), tendered for filing an agreement between WR and Kansas Electric Power Cooperative (KEPCo). This agreement includes (i) an Order No. 614 compliant version of the Service Agreement between WR and KEPCo and, (ii) a statement of intent to refund the time value of money pursuant to § 35.19(a) of the Federal Energy Regulatory Commission's regulations. WR states that the purpose of this agreement is to permit KEPCo to take service under WR’ Market Based Power Sales Tariff on file with the Commission.

This agreement is proposed to be effective October 1, 2000.

Copies of the filing were served upon KEPCo and the Kansas Corporation Commission.

Comment date: December 4, 2000, in accordance with Standard Paragraph E at the end of this notice.

35. Duke Power

[Docket No. ER01-450-000]

Take notice that on November 13, 2000, Duke Power (Duke), a division of Duke Energy Corporation, tendered for filing a Service Agreement with Oglethorpe Power Corporation for power sales at market-based rates.

Duke requests that the proposed Service Agreement be permitted to become effective on October 30, 2000.

Duke states that this filing is in accordance with Part 35 of the Commission's Regulations and a copy has been served on the North Carolina Utilities Commission.

Comment date: December 4, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-30083 Filed 11-24-00; 8:45 am]

BILLING CODE 6717-01-P